DEPARTMENT OF HEALTH AND HUMAN SERVICES

Health Resources and Services Administration

Advisory Committee; Notice of Meeting

In accordance with section 10(a)(2) of the Federal Advisory Committee Act, (Pub. L. 92-463), announcement is made of the following National Advisory Committee scheduled to meet during the month of April 2002.

Name: Advisory Committee on Interdisciplinary, Community-Based Linkages.

Date and Time: April 29, 2002; 8:00 a.m.—5:00 p.m., April 30, 2002; 8:00 a.m.—4:00 p.m.

Place: The Doubletree Hotel, 1750 Rockville Pike, Rockville, Maryland 20852.

The meeting is open to the public.

Agenda items will include, but not be limited to: Welcome; plenary discussion of interdisciplinary demonstration projects and promotion of interdisciplinary teams; workforce issues linked to regional and local need; collaboration with institutions that train minority and immigrant health care professionals in rural and inner city areas; presentations by speakers representing: the Bureau of Health Professions (BHPr), Health Resources and Services Administration; Committee members; the Division of State, Community and Public Health, BHPr; and BHPr staff supporting Committee activities. Meeting content will be based on the Committee's charge under section 756 of the Public Health Service Act, to include discussion and outline of the 2002 Committee report and scheduling of topics for the next Committee meeting in June 2002.

Public comment will be permitted before lunch and at the end of the Committee meeting on April 30, 2002. Oral presentations will be limited to 5 minutes per public speaker. Persons interested in providing an oral presentation should submit a written request, with a copy of their presentation to: Mrs. Tempie R. Desai, Principal Staff Liaison, Division of State, Community and Public Health, Bureau of Health Professions, Health Resources and Services Administration, Room 9-105, 5600 Fishers Lane, Rockville, Maryland 20857, Telephone (301) 443-0132.

Requests should contain the name, address, telephone number, and any business or professional affiliation of the person desiring to make an oral presentation. Groups having similar interests are requested to combine their comments and present them through a single representative. The Division of State, Community and Public Health will notify each presenter by mail or telephone of their assigned presentation time.

Persons who do not file an advance request for a presentation, but wish to make an oral statement may register to do so at the Doubletree Hotel, Rockville, Maryland, on April 29, 2002. These persons will be allocated time as the Committee meeting agenda permits.

Anyone requiring information regarding the Committee should contact Mrs. Desai, Division of State, Community and Public Health, Bureau of Health Professions, Health Resources and Services Administration, Room 9-105, 5600 Fishers Lane, Rockville, Maryland 20857, Telephone (301) 443-0132.

Proposed agenda items are subject to change as priorities dictate.

Dated: March 25, 2002.
Jane M. Harrison,
Director, Division of Policy Review and Coordination.

[FR Doc. 02-7584 Filed 3-28-02; 8:45 am]

BILLING CODE 4165-15-P